DEPARTMENT OF EDUCATION

Accrediting Agencies Currently Undergoing Review for the Purpose of Recognition by the U.S. Secretary of Education

AGENCY: U.S. Department of Education, Accreditation Group, Office of Postsecondary Education.

ACTION: Call for written third-party comments.

SUMMARY: This notice provides information to members of the public on submitting written comments for accrediting agencies currently undergoing review for the purpose of recognition by the U.S. Secretary of Education.

FOR FURTHER INFORMATION CONTACT: Herman Bounds, Director, Accreditation Group, Office of Postsecondary Education, U.S. Department of Education, 400 Maryland Avenue SW, fifth floor, Washington, DC 20202, telephone: (202) 453-7615, or email: herman.bounds@ed.gov.

SUPPLEMENTARY INFORMATION: This request for written third-party comments concerning the performance of accrediting agencies under review by the Secretary of Education is required by section 496(n)(1)(A) of the Higher Education Act (HEA) of 1965, as amended, and pertains to the summer 2025 meeting of the National Advisory Committee on Institutional Quality and Integrity (NACIQI). The meeting date and location have not been determined but will be announced in a later Federal Register notice. In addition, a later Federal Register notice will describe how to register to provide oral comments at the meeting. Note: Written comments about the specific agencies identified below will not be accepted or provided to NACIQI members if those comments are submitted after the deadline provided in this Federal Register notice, which is May 20, 2024. Written comments must be submitted to the mailbox identified below. Do not submit written comments directly to Department officials or to NACIQI members.

Agencies Under Review and Evaluation: The Department requests written comments from the public on the following accrediting agencies, which are currently undergoing review and evaluation by the Accreditation Group, and which will be reviewed at the summer 2025 NACIQI meeting. The agencies are listed by the type of application or report each agency has submitted. Please note, each agency's current scope of recognition is indicated below. If any agency requested to expand its scope of recognition, identified are both the current scope of recognition and the requested scope of recognition.

Compliance Reports

1. Accreditation Commission for Midwifery Education. Scope of Recognition: The accreditation and pre-accreditation of basic certificate, basic graduate nurse-midwifery, direct entry midwifery, and pre-certification nurse-midwifery education programs, including those programs that offer distance education. Geographic area of accrediting activities: The United States. The compliance report includes findings of noncompliance with certain criteria in 34 Code of Federal Regulations (CFR) Part 602 identified in the May 31, 2023, letter from the Senior Department Official (SDO) following the February 28, 2023, NACIQI meeting. The SDO letter is available under NACIQI meeting date 2/28/2023, at https://surveys.ope.ed.gov/erecognition/#/public-documents.

2. American Physical Therapy Association, Commission on Accreditation in Physical Therapy. Scope of Recognition: The accreditation and preaccreditation (“Candidate for Accreditation”) in the United States of physical therapist education programs leading to the first professional degree at the master's or doctoral level and physical therapist assistant education programs at the associate degree level and for its accreditation of such programs offered via distance education. Geographic area of accrediting activities: The United States. The compliance report includes findings of noncompliance with certain criteria in 34 CFR part 602 identified in the May 31, 2023, letter from the SDO following the February 28, 2023, NACIQI meeting. The SDO letter is available under NACIQI meeting date 2/28/2023, at https://surveys.ope.ed.gov/erecognition/#/public-documents.

3. Middle States Commission on Higher Education. Scope of Recognition: The accreditation and preaccreditation (“Candidacy status”) of institutions of higher education including distance, correspondence education programs and direct assessment programs offered at those institutions. Recognition extends to the Executive Committee to act on behalf of the Commission as necessary on cases of initial, reaffirmed, and continued candidacy or initial, reaffirmed and continued accreditation. Geographic Area of Accrediting Activities: The United States. The compliance report includes findings of noncompliance with certain criteria in 34 CFR part 602 identified in the May 31, 2023, letter from the SDO following the February 28, 2023 NACIQI meeting. The SDO letter is available under NACIQI meeting date 2/28/2023, at https://surveys.ope.ed.gov/erecognition/#/public-documents.

4. New England Commission of Higher Education. Scope of Recognition: The accreditation and pre-accreditation (“Candidacy status”) of institutions of higher education including the accreditation of programs offered via distance education and direct assessment within those institutions. Jointly with the Commission, this recognition extends to its Executive Committee and also to the Appeals Body for decisions related to the appeal of denial or withdrawal of candidacy; probation; and denial or withdrawal of accreditation. Geographic Area of Accrediting Activities: The United States. The compliance report includes findings of noncompliance with certain criteria in 34 CFR part 602 identified in the May 31, 2023, letter from the SDO following the February 28, 2023, NACIQI meeting. The SDO letter is available under NACIQI meeting date 2/28/2023, at https://surveys.ope.ed.gov/erecognition/#/public-documents.

5. Western Association of Schools and Colleges. Scope of Recognition: The accreditation and preaccreditation (“Candidate for Accreditation”) of institutions of higher education that offer the baccalaureate degree or above, including distance education programs offered at those institutions. Geographic area of accrediting activities: The United States. The compliance report includes findings of noncompliance with certain criteria in 34 CFR part 602 identified in the May 31, 2023, letter from the SDO following the February 28, 2023, NACIQI meeting. The SDO letter is available under NACIQI meeting date 2/28/2023, at https://surveys.ope.ed.gov/erecognition/#/public-documents.

Submission of Written Comments Regarding a Specific Accrediting Agency Under Review

Written comments about the recognition of any of the accrediting agencies listed above must be received by May 20, 2024, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a compliance report scheduled for review by the Department must relate to the criteria for recognition cited in the SDO letter that requested the compliance report following the February 28, 2023, NACIQI meeting, or in the Secretary's appeal decision, if any. The SDO letters for the specific agencies referenced in this Federal Register notice are available under NACIQI meeting date 2/28/2023, at https://surveys.ope.ed.gov/erecognition/#/public-documents.

Only written materials submitted by the deadline to the email address listed in this notice, and in accordance with these instructions, become part of the official record concerning agencies scheduled for review and are considered by the Department and NACIQI in their deliberations. Written comments about the specific agencies identified in this Federal Register notice that are submitted after the deadline will not be considered by the Department or provided to NACIQI for purposes of the current review. However, comments may be provided orally at the summer 2025 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1099b; 20 U.S.C. 1011c.

Nasser Paydar,
Assistant Secretary for the Office of Postsecondary Education.

[FR Doc. 2024-08770 Filed 4-23-24; 8:45 am]

BILLING CODE 4000-01-P